DEPARTMENT OF COMMERCE

National Oceanic and Atmospheric Administration

[RTID 0648-XB148]

Atlantic Highly Migratory Species; Atlantic Bluefin Tuna Fisheries; Pelagic Longline Fishery Management; Rule Reconsideration

AGENCY: National Marine Fisheries Service (NMFS), National Oceanic and Atmospheric Administration (NOAA), Commerce.

ACTION: Notice of public webinars; request for information.

SUMMARY: NMFS published a final rule on April 2, 2020, that, among other things, established the Spring Gulf of Mexico Monitoring Area in an area previously closed to pelagic longline fishing in April and May annually. This Monitoring Area is open to pelagic longline fishing to collect fishery-dependent data during a 3-year evaluation period. The rule also established a threshold amount of bluefin tuna incidental catch in the pelagic longline fishery in the area that, if reached, would close the area to pelagic longline fishing. Subsequently, the Congressional Joint Explanatory Statement (JES) that accompanied the 2021 Appropriations Act included text on “Western Atlantic Bluefin Tuna” directing NMFS to reconsider the decision in the final rule to open the Spring Gulf of Mexico Monitoring Area to pelagic longline fishing or to take additional monitoring action. This notice announces NMFS's request for public input and two public webinars to gather information regarding the Spring Gulf of Mexico Monitoring Area that may not have been considered in the final rule.

DATES: Comments and information related to the reconsideration of the Spring Gulf of Mexico Monitoring Area must be received on or before July 15, 2021. NMFS will hold two public webinars on June 23, 2021, from 10 a.m. to 12 p.m., and on June 30, 2021, from 2 p.m. to 4 p.m. For webinar registration information, see the ADDRESSES section of this document.

ADDRESSES: You may submit comments on this document, identified by NOAA-NMFS-2018-0035, by electronic submission. Submit all electronic public comments via the Federal e-Rulemaking Portal. Go to https://www.regulations.gov and enter “NOAA-NMFS-2018-0035” in the Search box. Click on the “Comment” icon, complete the required fields, and enter or attach your comments.

Instructions: Comments sent by any other method, to any other address or individual, or received after July 15, 2021, may not be considered by NMFS. All information received generally will be posted for public viewing on www.regulations.gov without change. All personal identifying information (e.g., name, address), confidential business information, or otherwise sensitive information submitted voluntarily by the sender will be publicly accessible. NMFS will accept anonymous comments (enter “N/A” in the required fields if you wish to remain anonymous).

NMFS will hold two public webinars. Webinar details will be posted to the web page for information related to the Gear Restricted Area-Weak Hook final rule at https://www.fisheries.noaa.gov/action/pelagic-longline-bluefin-tuna-area-based-and-weak-hook-management-measures. At the beginning of the conference call, the moderator will explain how the conference call will be conducted and how and when attendees can provide comments.

FOR FURTHER INFORMATION CONTACT: Craig Cockrell at craig.cockrell@noaa.gov or 301-427-8503.

SUPPLEMENTARY INFORMATION:

Background

On April 2, 2020, NMFS published a final rule in the Federal Register (85 FR 18812) that adjusted regulatory measures put in place to reduce incidental catch of bluefin tuna in the pelagic longline fishery for Atlantic highly migratory species (HMS). Specifically, the final measures converted the Spring Gulf of Mexico Gear Restricted Area to the “Spring Gulf of Mexico Monitoring Area” and established a 3-year (2020-2022) evaluation period. During this period, NMFS would evaluate whether gear restrictions in this area during the months of April and May were still needed in tandem with other measures to appropriately manage incidental catch of bluefin tuna in the pelagic longline fishery. During the evaluation period, the area remains open to pelagic longline fishing provided the amount of Individual Bluefin Quota (IBQ) allocation used to account for bluefin catch (landings and dead discards) stays below a specified threshold for the area. The threshold for the Spring Gulf of Mexico Monitoring Area is 63,150 pounds (28.6 metric tons) for each year of the evaluation period. If the threshold is reached, the area closes. After the 3-year evaluation period, NMFS will review data collected from the Monitoring Area, including information from vessel monitoring system (VMS) vessel track and set report data, IBQ System data, electronic monitoring data, and other data streams; compile a report; and may take any further action if needed.

Since April 2, 2020, no pelagic longline sets have occurred within the boundaries of the Spring Gulf of Mexico Monitoring Area. NMFS continues to monitor any fishing activity and incidental catch occurring during the evaluation period. Details on bluefin tuna catch data are available and updated periodically on the web page for information related to the Gear Restricted Area-Weak Hook final rule at https://www.fisheries.noaa.gov/action/pelagic-longline-bluefin-tuna-area-based-and-weak-hook-management-measures.

Reconsideration Process

The JES that accompanied the 2021 Appropriations Act included text on “Western Atlantic Bluefin Tuna” directing NMFS to reconsider the decision in the Gear Restricted Area-Weak Hook final rule to open the Spring Gulf of Mexico Monitoring Area to pelagic longline fishing or to take additional monitoring action. The Appropriations Act and JES language can be found at https://www.govinfo.gov/content/pkg/CREC-2020-12-21/pdf/CREC-2020-12-21-house-bk3.pdf. NMFS developed a plan for the reconsideration of the Spring Gulf of Mexico Monitoring Area, which is available on the web page for information related to the Gear Restricted Area-Weak Hook final rule at https://www.fisheries.noaa.gov/action/pelagic-longline-bluefin-tuna-area-based-and-weak-hook-management-measures. The plan, which NMFS reviewed with the Atlantic HMS Advisory Panel on May 18, 2021, provides the public an opportunity to submit information that may not have been considered in the final rule. Once public input and information received are assessed, the agency's conclusions will be communicated via appropriate mechanisms.

Request for Information

NMFS will consider public input and information provided through this process. Comments and information may be submitted via www.regulations.gov and at the public webinar. NMFS requests information be submitted by July 15, 2021.

NMFS will hold two public webinars on June 23, 2021, from 10 a.m. to 12 p.m., and on June 30, 2021, from 2 p.m. to 4 p.m. Registration information for the webinars can be found on the web page for information related to the Gear Restricted Area-Weak Hook final rule at https://www.fisheries.noaa.gov/action/pelagic-longline-bluefin-tuna-area-based-and-weak-hook-management-measures. Requests for sign language interpretation or other auxiliary aids should be directed to Craig Cockrell at craig.cockrell@noaa.gov or 301-427-8503, at least 7 days prior to the meeting.

The public is reminded that NMFS expects participants at the public webinars to conduct themselves appropriately. At the beginning of each the webinar, the moderator will explain how the webinar will be conducted and how and when participants can provide comments. NMFS will structure the webinars so that all members of the public will be able to comment, if they so choose, regardless of the controversial nature of the subject. Participants are expected to respect the ground rules, and those that do not may be asked to leave the webinar.

Dated: June 10, 2021.
Jennifer M. Wallace,
Acting Director, Office of Sustainable Fisheries, National Marine Fisheries Service.

[FR Doc. 2021-12560 Filed 6-14-21; 8:45 am]

BILLING CODE 3510-22-P